DEPARTMENT OF AGRICULTURE

Forest Service

Newsome Creek Watershed Rehabilitation Project, Nez Perce National Forest, Idaho County, ID

AGENCY: Forest Service, USDA.

ACTION: Notice; intent to prepare environmental impact statement.

Authority: 40 CFR 1501.7

SUMMARY: The Forest Service will prepare an environmental impact statement to disclose the environmental impacts of implementing watershed improvement activities within the Newsome Creek Watershed Rehabilitation project area. Individuals interested in actions of this nature are encouraged to submit comments and become involved in the planning process.

DATES: Comments concerning the scope of the analysis should be received at the address below on or before May 6, 2005.

ADDRESSES: Send written comments to Terry Nevius, Red River District Ranger, P.O. Box 416, Elk City, ID 83525.

FOR FURTHER INFORMATION CONTACT: Stephanie Bransford, Project Coordinator, (208) 842-2113.

SUPPLEMENTARY INFORMATION: The Newsome Creek Watershed Rehabilitation Project area is located on the Nez Perce National Forest in northern Idaho within Idaho County. Newsome Creek joins the South Fork Clearwater River 53 miles upstream of Kooshia, Idaho. This watershed has a very high habitat potential for both anadromous and resident fish with spawning occurring in the upper reaches and providing important subadult/adult rearing habitat for fish in the lower section (USDA Forest Service, 1998).

The Newsome Creek Watershed Rehabilitation Project entails three main components; road decommissioning and improvements, culvert replacements, and the rehabilitation of approximately four miles of the mainstream Newsome Creek channel and floodplain.

Approximately 52 miles of roads have been identified for either decomissioning or improvement. Treating these roads will reduce chronic sediment delivery to the watershed's stream system.

Two culverts have been identified for replacement. They are located on a road that is identified above for improvement. These culverts are currently undersized and fish passage barriers. New culverts will be designed using natural stream simulation and will be able to handle bankfull stream flows.

In 2004, a feasibility study was done on rehabilitating approximately 4 miles of stream channel and floodplain that have been heavily altered by past dredge mining activities. From the feasibility study an alternative has been chosen that includes regrading sections of tailings piles to regain a functioning floodplain as well as reconstructing sections of stream channel that currently has little or no habitat diversity. This component of the project will create more fish habitat for spawning and rearing as well as providing a functioning riparian area and floodplain.

The comment period on the draft environmental impact statement will be 45-days from the date the Environmental Protection Agency publishes the notice of availability in the Federal Register.

It is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016,1022 (9th Cir. 1980) and Wisconsin Heritages, Inc. v. Harris, 490 F. Supp. 1334, 1338 (E.D. Wis. 1980). Because of these court rulings, it is very important that those interested in the Newsome Creek Watershed Rehabilitation Project, as now defined, submit comments by [enter correct time period] so that substantive comments and objections are made available to the Forest Service at a time when it can meaningfully consider them and respond to them in the final environmental impact statement.

Dated: March 9, 2005.
Jane L. Cottrell,
Forest Supervisor, Nez Perce National Forest.

[FR Doc. 05-5146 Filed 3-15-05; 8:45 am]

BILLING CODE 3410-11-M